ELECTION ASSISTANCE COMMISSION

Publication of State Plans Pursuant to the Help America Vote Act

AGENCY: U.S. Election Assistance Commission (EAC).

ACTION: Notice.

SUMMARY: Pursuant to Section 255(b) of the Help America Vote Act(HAVA), Pub. L. 107-252, the U.S. Election Assistance Commission (EAC) hereby causes to be published in the Federal Register the election plans submitted by the 50 States, the District of Columbia, the Commonwealth of Puerto Rico, Guam, American Samoa, and the United States Virgin Islands.

DATES: This notice is effective March 24, 2004.

FOR FURTHER INFORMATION CONTACT: Bryan Whitener at (202) 694-1095.

Submit Comments: Any comments regarding the plans published herewith should be made in writing to the chief election official of the individual States at the address listed in the SUPPLEMENTARY INFORMATION section.

SUPPLEMENTARY INFORMATION: The Commission wishes to acknowledge the great effort that went into the development of the State plans and encourages public comment. The Commission notes that plans published herein include only those that meet the notice and comment requirements of Sec. 256 of HAVA. The Commission also notes that States, Territories and the District of Columbia (the jurisdiction) may change or update their plans from time to time pursuant to Section 254 (a)(11),(12),(13) of HAVA. Those commenting on these plans should contact the chief State election official of their respective State, Territory or the District of Columbia listed in the SUPPLEMENTARY INFORMATION section, to determine if their jurisdiction has or is in the process of making changes in their plans pursuant to Section 254.

Upon the expiration of 45 days from March 24, 2004, any State, Territory or the District of Columbia whose plan is published herein will be eligible to file a statement of certification under Sec. 253 of HAVA. The statement of certification must confirm that the jurisdiction is in compliance with the requirements referred to in Section 253(b) of HAVA. The statement of certification must be provided to the Election Assistance Commission in order for the jurisdiction to receive a requirements payment under Subtitle D of Title II of HAVA.

The members of the U.S. Election Assistance Commission are:

DeForest B. Soaries, Jr., Chairman;

Gracia M. Hillman, Vice-Chair;

Paul S. DeGregorio, Commissioner; and

Ray Martinez, III, Commissioner.

Chief State Election Officials

Alabama

Nancy Worley, Secretary of State, Alabama State Capitol, Room S-105, 600 Dexter Avenue, Montgomery, AL 36104, 334/242-7205, FAX 334/242-4993, E-mail: sos@sos.al.gov.

Alaska

Loren Lehman, Lieutenant Governor, State of Alaska, State Capitol, Rm 315, 120 4th Street, Juneau, AK 99801, 907/465-3520, FAX 907/465-5400, E-mail: Loren_Lehman@gov.state.ak.us.

American Samoa

Soliai T. Fuimaono, Chief Election Officer, Election Office, PO Box 3970, Pago Pago, AS 96799, 0-11-684/633-2522, FAX 0-11-684/633-7116, E-mail: Aselect@samoatelco.com.

Arizona

Jan Brewer, Secretary of State, State Capitol, West Wing, 7th Floor, 1700 W Washington, Phoenix AZ 85007-2808, 602/542-4285, FAX 602/542-1575, E-mail: sosadmin@sos.state.az.us.

Arkansas

Charlie Daniels, Secretary of State, 256 State Capitol Bldg., Little Rock AR 72201, 501/682-1010, FAX 501/682-3510, E-mail: ElectionsEmail@sosmail.state.ar.us.

California

Kevin Shelley, Secretary of State, 1500 11th St, Sacramento CA 95814-2974, 916/653-7244, FAX 916/653-4620, E-mail: constituentaffairs@ss.ca.gov.

Colorado

Donetta Davidson, Secretary of State, 1560 Broadway, Ste. 200, Denver CO 80202, 303/894-2212, FAX 303/894-2389, E-mail: sosadmin1@state.co.us.

Connecticut

Susan Bysiewicz, Secretary of the State, State Capitol, Rm 104, 210 Capitol Avenue, Hartford CT 06106, 860/509-6200, FAX 860/509-6209,E-mail: Susan.Bysiewicz@po.state.ct.us.

Delaware

Frank B. Calio, Commissioner of Elections, 32 West Loockerman St, Ste M101, Dover DE 19904, 302/739-4277, FAX 302/739-6794, 1-800/323-7523, E-mail: fcalio@state.de.us.

District of Columbia

Alice P. Miller, Executive Director, Board of Elections and Ethics, 441 Fourth St, NW., Rm. 250, Washington DC 20001, 202/727-2525, FAX 202/347-2648, E-mail: apmiller@dcboee.org.

Florida

Glenda E. Hood, Secretary of State, The Capitol, Plaza Level, Room 2, Tallahassee FL 32399-0250, 850/488-3680, FAX 850/487-2214, E-mail: SecretaryofState@mail.dos.state.fl.us.

Georgia

Cathy Cox, Secretary of State and Chairperson, State Election Board, State Capitol, Rm 214, Atlanta GA 30334, 404/656-2881, FAX 404/656-0513, E-mail: sosweb@sos.state.ga.us.

Guam

Gerald A. Taitano, Executive Director, Election Commission, GCIC Building, Ste 200, 414 West Soledad Avenue, Hagatna, GU 96910, 671/477-9791, FAX 671/477-1895, E-mail: gataitano@mail.gov.gu.

Hawaii

Dwayne Yoshina, Chief Election Officer, Office of Elections, 802 Lehua Avenue, Pearl City HI 96782, 808/453-8683, FAX 808/453-6006, 1-800/442-8683 (Hawaii only), E-mail: elections@aloha.net.

Idaho

Ben Ysursa, Secretary of State, 700 West Jefferson, Ste. 203, P.O. Box 83720, Boise ID 83720-0080, 208/334-2300, FAX 208/334-2282,

E-mail: election@idsos.state.id.us.

Illinois

Daniel W. White, Executive Director, State Board of Elections, 1020 S. Spring St., Springfield IL 62704, 217/782-4141, FAX 217/524-5574,E-mail: dwhite@elections.state.il.us.

Indiana

Todd Rokita, Secretary of State, State House, Rm 201, Indianapolis IN 46204, 317/232-6531, FAX 317/233-3283, E-mail: jgreen@sos.state.in.us.

Iowa

Chet Culver, Secretary of State, Chairperson, Voter Registration Commission, State House, Des Moines IA 50319, 515/281-8993, FAX 515/242-5952, E-mail: sos@sos.state.ia.us.

Kansas

Ron Thornburgh, Secretary of State, Memorial Hall, 1st Fl., 120 SW. 10th, Topeka KS 66612-1594, 785/296-2236, FAX 785/291-3051, E-mail: RonT@kssos.org.

Kentucky

Sarah Ball Johnson, Executive Director, State Board of Elections, 140 Walnut St, Frankfort KY 40601-3240, 502/573-7100, FAX 502/573-4369, E-mail: sarahball.Johnson@mail.state.ky.us.

Louisiana

W. Fox McKeithen, Secretary of State, State Capitol, 20th Flr, Baton Rouge LA 70804,225/342-4479, FAX 225/342-5577,E-mail: admin@sos.louisiana.gov.

Maine

Dan Gwadosky, Secretary of State, 148 State House Station, Augusta ME 04333-0148,207/626-8400,FAX 207/287-8598,E-mail: Dan.Gwadosky@state.me.us.

Maryland

Linda H. Lamone, Administrator, State Board of Elections,151 West Street, Ste. 200,Annapolis MD 21401-0486,410/269-2840,FAX 410/974-2019,E-mail: sep@elections.state.md.us.

Massachusetts

William Francis Galvin, Secretary of the Commonwealth, State House, Rm 337,Boston MA 02133,617/727-9180,FAX 617/742-4722,E-mail: cis@sec.state.ma.us.

Michigan

Terri Lynn Land, Secretary of State, Treasury Bldg., First Flr,430 W Allegan St,Lansing MI 48918-9900,517/373-2510,FAX 517/373-0727,E-mail: secretary@michigan.gov.

Minnesota

Mary Kiffmeyer, Secretary of State, 180 State Office Bldg.,100 Constitution Ave,St Paul MN 55155-1299,651/282-2436,FAX 651/296-9073,E-mail: secretary.state@state.mn.us.

Mississippi

Eric Clark, Secretary of State, 401 Mississippi Street, Jackson MS 39201,601/359-1350,FAX 601/359-5019,E-mail: eclark@sos.state.ms.us.

Missouri

Matt Blunt, Secretary of State, State Capitol, Rm 208, Jefferson City MO 65101,573/751-2379,FAX 573/751-2490,E-mail: SOSmain@sosmail.state.mo.us.

Montana

Bob Brown, Secretary of State, State Capitol, Rm 225, P.O. BOX 202801,Helena Mt 59620,406/444-2034,FAX 406/444-3976,E-mail: bobbrown@state.mt.us.

Nebraska

John A. Gale, Secretary of State, State Capitol, Ste 2300,Lincoln NE 68509-4608,402/471-2555,FAX 402/471-3237,E-mail: Jgale@nol.org.

Nevada

Dean Heller, Secretary of State, Capitol Building, 101 North Carson Street, Ste. 3,Carson City NV 89701-4786,775/684-5708,FAX 775/684-5725,E-mail: sosmail@govmail.state.nv.us.

New Hampshire

William M. Gardner, Secretary of State, State House, Rm 204,Concord NH 03301,603/271-3242,FAX 603/271-6316,E-mail: kladd@sos.state.nh.us.

New Jersey

Peter C. Harvey, Attorney General of New Jersey, Department of Law and Public Safety,25 Market Street, P.O. Box 080,Trenton, NJ 08625-0080,609/292-4976,FAX 609/292-3508,E-mail: njelections@lps.state.nj.us.

New Mexico

Rebecca Vigil-Giron, Secretary of State, 325 Don Gaspar, Ste. 300,Santa Fe, NM 87503,505/827-3600,FAX 505/827-8081,E-mail: secstate@state.nm.us.

New York

Peter S. Kosinski, Deputy Executive Director, State Board of Election,40 Steuben Street,Albany NY 12207-2109,518/474-6367,FAX 518/486-4068,E-mail: pkosinski@elections.state.ny.us.

North Carolina

Gary O. Bartlett, Executive Director, State Board of Elections,506 North Harrington Street,Raleigh NC 27603,919/733-7173,FAX 919/715-0135,E-mail: gary.Bartlett@ncmail.net.

North Dakota

Alvin A. Jaeger, Secretary of State, 600 East Boulevard Ave., Dept. 108,Bismarck ND 58505-0500,701/328-2900,FAX 701/328-2992,E-mail: sos@state.nd.us.

Ohio

J. Kenneth Blackwell, Secretary of State, 180 E. Broad St., 16th Fl.,Columbus OH 43215,614/466-4980,FAX 614/466-2892,E-mail: Blackwell@sos.state.oh.us.

Oklahoma

Michael Clingman, Secretary, State Election Board, State Capitol, Rm B-6,Oklahoma City OK 73105,405/521-2391,FAX 405/521-6457,E-mail: elections@oklasof.state.ok.us.

Oregon

Bill Bradbury, Secretary of State, 136 State Capitol, Salem OR 97310-0722,503/986-1500,FAX 503/986-1616,E-mail: Oregon.sos@state.or.us.

Pennsylvania

Pedro A. Cortes, Secretary of the Commonwealth, 302 North Office Bldg.,Harrisburg PA 17120-0029,717/787-7630,FAX 717/787-1734,E-mail: pcortes@state.pa.us.

Puerto Rico

Aurelio Gracia Morales, President, State Elections Commission,P.O. Box 9066525,San Juan PR 00906-6525,787/777-8682,FAX 787/296-0173,E-mail:

Rhode Island

Matt Brown, Secretary of State, State House, Room 220,Providence RI 02903,401/222-2357,FAX 401/222-1356,E-mail: mhammond1@infoave.net.

South Carolina

Marci Andino, Executive Director, State Election Commission,2221 Devine Street, Ste 105,Columbia SC 29205,803/734-9060,FAX 803/734-9066,E-mail: Elections@scsec.state.sc.us.

South Dakota

Chris Nelson, Secretary of State, State Capitol Bldg., Ste 204,500 E Capitol,Pierre SD 57501-5070,605/773-3537,FAX 605/773-6580,E-mail: Chris.Nelson@state.sd.us.

Tennessee

Brook Thompson, Coordinator of Elections, Elections Division,Office of the Secretary of State,312 Eighth Avenue North,8th Floor, William R. Snodgrass Tower,Nashville TN 37243-0309,615/741-7956,FAX 615/741/1278,E-mail: Tennessee.Elections@state.tn.us.

Texas

Geoffrey Connor, Secretary of State, State Capitol, Rm 1E.8, Austin TX 78701, 512/463-5701, FAX 512/475-2761, E-mail: gconnor@sos.state.tx.us.

Utah

Gayle F. McKeachnie, Lieutenant Governor, Chief Elections Officer, 115 State Capitol, Salt Lake City UT 84114-0601, 801/538-1040, FAX 801/538-1557, E-mail: elections@utah.gov.

Vermont

Deborah L. Markowitz, Secretary of State, Redstone Building, 26 Terrace Street, Montpelier VT, 802/828-2363, FAX 802/828-2496, E-mail: dmarko@sec.state.vt.us.

Virginia

Jean Jensen, Secretary, State Board of Elections, 200 N 9th St, Ste 101, Richmond VA 23219-3497, 804/786-6551, FAX 804/371-0194, E-mail: jjensen@sbe.state.va.us.

Virgin Islands

John Abrahamson, Jr., Supervisor of Elections, 4 Sunny Isle Shopping Center Annex, Christiansted, St. Croix, United States VI 00851, 809/774-3107, FAX 809/776-2391, E-mail: electionsys@unitedstates.vi.

Washington

Sam Reed, Secretary of State, 520 Union Avenue, SE., PO Box 40220, Olympia WA 98504-0220, 360/902-4151, FAX 360/586-5629, E-mail: sreed@secstate.wa.gov.

West Virgina

Joe Manchin, III, Secretary of State, Building 1, Rm 157-K, 1900 Kanawha Blvd E, Charleston WV 25305-0770, 304/558-6000, FAX 304/558-0900, E-mail: wvsos@wvsos.com.

Wisconsin

Kevin J. Kennedy, Executive Director, State Elections Board, P.O. Box 2973, 132 E. Wilson St, Ste 200, Madison WI 53701-2973, 608/266-8005, FAX 608/267-0500, E-mail: seb@seb.state.wi.us.

Wyoming

Joe Meyer, Secretary of State, The Capitol Bldg., Rm 106, Cheyenne WY 82002-0020, 307/777-5333, FAX 307/777-6217, E-mail: secofstate@state.wy.us.

Thank you for your interest in improving the voting process in America.

Signed: March 8, 2004.
DeForest B. Soaries, Jr.,
Chairman, U.S. Election Assistance Commission.

BILLING CODE 6820-MP-P

[FR Doc. 04-5839 Filed 3-23-04; 8:45 am]

BILLING CODE 6820-MP-C